DEPARTMENT OF THE INTERIOR

Bureau of Land Management

[AZ-050-00-1230-00; 8371]

Arizona: Long-Term Visitor Area Program for 2000-2001 and Subsequent Use Seasons; Revision to Existing Supplementary Rules, Yuma Field Office, Arizona, and California Desert District, California

AGENCY: Bureau of Land Management, Interior.

ACTION: Publication of supplementary rules for Long-Term Visitor Areas within the California Desert District, El Centro Resource Area.

SUMMARY: The Bureau of Land Management (BLM) Yuma Field Office and California Desert District announce revisions to the Long-Term Visitor Area (LTVA) Program. The program, which was instituted in 1983, established designated LTVAs and identified an annual long-term use season from September 15 to April 15. During the long-term season, visitors who wish to camp to public lands in one location for extended periods must stay in the designated LTVAs and purchase an LTVA permit.

EFFECTIVE DATE: September 15, 2000.

FOR FURTHER INFORMATION CONTACT: Mark Lowans, Outdoor Recreation Planner, Yuma Field Office, 2555 East Gila Ridge Road, Yuma, Arizona 85365, telephone (520) 317-3210; and Anna Atkinson, Outdoor Recreation Planner, Palm Springs-South Coast Research Area, 690 West Garnet Avenue, North Palm Springs, California 92258, telephone (760) 251-4800; or Bob Haggerty, Outdoor Recreation Planner, El Centro Resource Area, 1661 South Fourth Street, El Centro, California 92243, telephone (760) 337-4400.

SUPPLEMENTARY INFORMATION: The purpose of the LTVA program is to provide areas for long-term winter camping use. The sites designated as LTVAs are, in most cases, the traditional use areas of long-term visitors. Designated sites were selected using criteria developed during the land management planning process, and environmental assessments were completed for each site location.

The program was established to safely and properly accommodate the increasing demand for long-term winter visitation and to provide natural resource protection through improved management of this use. The designation of LTVAs assures that specific locations are available for long-term use year after year, and that inappropriate areas are not used for extended periods.

Visitors may camp without an LTVA permit outside of LTVAS, on public lands not otherwise posted or closed to camping, for up to 14 days in any 28-day period.

Authority for the designation of LTVAs is contained in Title 43, Code of Federal Regulations, Subpart 8372, Sections 0-3 and 0-5(g). Authority for the establishment of an LTVA program is contained in Title 43, Code of Federal Regulations, Subpart 8372, Section 1, and for the payment of fees in Title 36, Code of Federal Regulations, Subpart 71. The authority for establishing supplementary rules is contained in Title 43, Subpart 8365, Section 1-6. The LTVA supplementary rules have been developed to meet the goals of individual resource management plans. These rules will be available in each local office having jurisdiction over the lands, sites, or facilities affected, and will be posted near and/or within the lands, sites, or facilities affected. Violations of supplementary rules are punishable by a fine not to exceed $100,000 and/or imprisonment not to exceed 12 months.

The following are the supplemental rules for the designated LTVAs and are in addition to rules of conduct set forth in Title 43, Code of Federal Regulations, Subpart 8365, Section 0.1 through 1-7.

The following supplemental rules apply year-long to all public land users who enter the LTVAS.

1. The Permit. A permit is required to camp in a designated LTVA between September 15 and April 15. The permit authorizes the permittee to camp within any designated LTVA using those camping or dwelling unit(s) indicated on the permit between the period from September 15 to April 15. There are two types of permits: Long-term and short-visit. The long-term permit fee is $100.00, U.S. funds only, for the entire season and any part of the season. The short-term permit is $20.00 for seven (7) consecutive days. The short-visit permit may be renewal an unlimited number of times for the cost of $20.00 for seven consecutive days. No refunds are made on permit fees.

2. The Permit. The be valid, the short-visit permit decal or long-term permit decal must be affixed at the time of purchase, with the adhesive backing, to the bottom right-hand corner of the windshield of all transportation vehicles and in a clearly visible location on all camping units. A maximum of two (2) secondary vehicles is permitted.

3. Permit Transfers. The permit may not be reassigned or transferred by the permittee.

4. Permit Revocation. An authorized BLM officer may revoke, without reimbursement, any LTVA permit issued to any person when the permittee violates any BLM rule or regulation, or when the permittee, permittee's family, or guest's conduct is inconsistent with the goal of BLM's LTVA Program. Failure to return any LTVA permit to an authorized BLM officer upon demand is a violation of this supplemental rule. Any permittee whose permit is revoked must remove all property and leave the LTVA system within 12 hours of notice. The revoked permittee will not be allowed into any other LTVA in Arizona or California for the remainder of the LTVA season.

5. Unoccupied Camping Units. Camping units or campsites must not be left unoccupied within any LTVA for periods of greater than 5 days unless approved in advance by an authorized BLM officer.

6. Parking. For your safety and privacy, you must maintain a minimum of 15 feet of space between dwelling units.

7. Removal of Wheels and Campers. Campers, trailers, and other dwelling units must remain mobile. Wheels must remain on all wheeled vehicles. Pickup campers may be set on jacks manufactured for that purpose.

8. Quiet Hours. Quiet hours are from 10 p.m. to 6 a.m. in accordance with applicable State time zone standards, or as otherwise posted.

9. Noise. Operation of audio devices or motorized equipment, including generators, in a manner that makes unreasonable noise as determined by the authorized BLM officer is prohibited. Amplified music is allowed only within La Posa and Imperial Dam LTVAs and only in locations designated by BLM or when approved in advance by an authorized BLM officer.

10. Access. Do not block roads or trails commonly in public use with your parked vehicles, stones, wooden barricades, or by any other means.

11. Structures and Landscaping. Fixed structures of any type are prohibited and temporary structures must conform to posted policies. This includes, but is not limited to fences, dog runs, storage units, and windbreaks. Alterations to the natural landscape are not allowed. Painting rocks or defacing or damaging any natural or archaeological feature is prohibited.

12. Livestock. Boarding of livestock (horses, cattle, sheep, goats, etc.) within LTVA boundaries is permitted only when approved in advance by an authorized BLM officer.

13. Pets. Pets must be kept on a leash at all times. Keep an eye on your pets. Unattended and unwatched pets may fall prey to coyotes or other desert predators. Pet owners are responsible for clean-up and sanitary disposal of pet waste.

14. Cultural Resources. Do not disturb any archaeological or historical values including, but not limited to, petroglyphs, ruins, historic buildings, and artifacts that may occur on public lands.

15. Trash. Place all trash in designated receptacles. Public trash facilities are shown in the LTVA brochure. Depositing trash or holding-tank sewage in vault toilets is prohibited. An LTVA permit is require for trash disposal within all LTVA campgrounds except for the Mule Mountain LTVA. The changing of motor oil, vehicular fluids, or disposal and possession of these used substances within an LTVA is strictly prohibited.

16. Dumping. Absolutely no dumping of sewage, gray water, or garbage on the ground. This includes motor oil and any other waste products: Federal, state and county sanitation laws and county ordinances specifically prohibit these practices. Sanitary dump station locations are shown in the LTVA brochure. LTVA permits are required for dumping within all LTVA campgrounds except for the Midland LTVA.

17. Self-Contained Vehicles. In Pilot Knob, Midland, Tamarisk, and Hot Springs LTVAs, camping is restricted to self-contained camping units only. Self-contained units must have a permanent affixed waste water holding tank of 10-gallon minimum capacity. Port-a-potty systems, or systems which utilize portable holding tanks, or permanent holding tanks of less than 10-gallon capacity are not considered to be self-contained. The La Posa, Imperial Dam, and Mule Mountain LTVAs are restricted to self-contained camping units, except within 500 feet of a vault or rest room.

18. Campfires. Campfires are permitted in LTVAs subject to all local, state, and Federal regulations. Comply with posted rules.

19. Wood Collection. No wood collection is permitted within the LTVAs. Possession of native firewood is prohibited. Please contact the nearest BLM office for current regulations concerning wood collection.

20. Speed Limit. The speed limit in LTVAs is 15 mph or as otherwise posted.

21. Off-Highway Vehicle Use. Motorized vehicles must remain on existing roads, trails, and washes.

22. Vehicle Use. It is prohibited to operate any vehicle in violation of State or local laws and regulations relating to use, standards, registration, operation, and inspection.

23. Firearms. The discharge or use of firearms or weapons if prohibited inside or within ½ mile of the LTVAS.

24. Vending Permits. Any commercial activity requires a vending permit. Please contact the nearest BLM office for information on vending or concession permits.

25. Aircraft Use. Landing or taking off of aircraft, including ultralights and hot air balloons, is prohibited in LTVAs.

26. Perimeter Camping. No camping is allowed within 1 mile of Hot Spring, Tamarisk, Pilot Knob LTVAs and within 2 miles of Midland LTVA.

27. Hot Spring Spa and Day Use Area: Food, beverages, glass containers, soap, and pets are prohibited within the fenced-in area at the Hot Springs Spa. Day use hours are 5 a.m. to midnight.

28. Mule Mountain LTVA. All camping within Wiley's Well and Coon Hollow campgrounds is restricted to designated sites only and is limited to one (1) camping or dwelling unit per site.

29. Imperial Dam and La Posa LTVAs. Overnight occupancy is prohibited in desert washes in Imperial Dam and La Posa LTVAs.

30. La Posa LTVA. Access to La Posa LTVA is restricted to legal access roads along U.S. Highway 95. Construction and use of other access points are prohibited. This includes removal or modification of barricades, such as fences, ditches, and berms.

31. Posted Rules. Observe all posted rules. Individual LTVAs may have additional specific rules. If posted rules differ from these supplemental rules, the posted rules take precedence.

32. Other Laws. LTVA permit holders are required to observe all Federal, State, and local laws and regulations applicable to the LTVA and shall keep the LTVA and, specifically, their campsite, in a neat, orderly, and sanitary condition.

33. Length of Stay. Length of stay in an LTVA between April 16 and September 14 is limited to 14 days in a 28-day period. After the 14th day of occupation campers must move outside of a 25-mile radius of the previous location.

Violation of these supplementary rules may result in revocation of the LTVA permit, issuance of a citation, and/or arrest which may require appearance before a U.S. Magistrate or penalties upt o $100,000 and/or one-year imprisonment.

This notice is published under the authority of Title 43, Code of Federal Regulations, Subpart 8365, Section 1-6.

Dated: June 30, 2000.
Gail Acheson,
Field Manager, Yuma Field Office.
James G. Kenna,
Field Manager, Palm Spring-South Coast Field Office.
Elayn Briggs,
Acting Field Manager, El Centro Field Office.

[FR Doc. 00-17858 Filed 7-14-00; 8:45 am]

BILLING CODE 4310-32-M